SMALL BUSINESS ADMINISTRATION

[Declaration of Disaster #3496]

State of Kansas

(Amendment #2)

In accordance with a notice received from the Department of Homeland Security—Federal Emergency Management Agency, effective May 22, 2003, the above numbered declaration is hereby amended to include Haskell, Meade and Seward Counties in the State of Kansas as disaster areas due to damages caused by severe storms, tornadoes and flooding occurring on May 4, 2003 and continuing.

In addition, applications for economic injury loans from small businesses located in the contiguous counties of Clark, Finney, Ford, Grant, Gray, Kearny and Stevens in the State of Kansas; and Beaver and Texas Counties in the State of Oklahoma may be filed until the specified date at the previously designated location. All other counties contiguous to the above named primary counties have been previously declared.

All other information remains the same, i.e., the deadline for filing applications for physical damage is July 7, 2003, and for economic injury the deadline is February 6, 2004.

(Catalog of Federal Domestic Assistance Program Nos. 59002 and 59008).

Dated: May 23, 2003.
Herbert L. Mitchell,
Associate Administrator for Disaster Assistance.

[FR Doc. 03-14542 Filed 6-9-03; 8:45 am]

BILLING CODE 8025-01-P